ENVIRONMENTAL PROTECTION AGENCY

[FRL-8447-8]

Draft NPDES General Permits for Log Transfer Facilities in Alaska (Permit Nos. AK-G70-0000 and AK-G70-1000) and Request for Public Comment

AGENCY: Environmental Protection Agency (EPA).

ACTION: Notice of availability of draft NPDES general permits and request for public comment.

SUMMARY: The Director of the Office of Water and Watersheds, EPA Region 10, is publishing notice of the availability of two draft National Pollutant Discharge Elimination System (NPDES) general permits (numbers AK-G70-0000 and AK-G70-1000) to provide Clean Water Act (33 U.S.C. 1251 et seq.) authorization for log transfer facilities (LTFs) operating in Alaska. General permit (GP) AK-G70-0000 (the “Pre-1985” GP) includes section 402 modifications to section 404 permits issued to LTFs prior to October 22, 1985, in accordance with section 407 of the Water Quality Act of 1987 (Public Law 100-4). All other LTFs can apply to be authorized to discharge under AK-G70-1000 (the “Post-1985” GP) if they meet eligibility requirements.

The draft Post-1985 GP is a reissuance of a previously issued LTF GP that became effective on March 21, 2000, and was subsequently modified on April 27, 2004 (69 FR 19417). The Post-1985 GP expired on March 21, 2005, and has been administratively extended since that time. The draft Pre-1985 GP contains additional modifications to section 404 permits issued to LTFs prior to October 22, 1985. The modifications implemented by the Pre-1985 GP became effective as of April 27, 2004, and did not expire because the section 404 permits had no expiration date.

New LTFs or existing LTFs not currently authorized to discharge, and which meet the eligibility criteria under the Post-1985 permit, must submit a written Notice of Intent (NOI) to be covered at least 60 days prior to the anticipated commencement of in-water log storage or transfer operations. For existing LTFs that are operating under an administratively extended permit pursuant to 40 CFR 122.6, NOIs were to be submitted 180 days prior to the expiration of the permit (i.e., September 22, 2004). If changes have occurred since that time that require a revised NOI to be submitted, such revised NOIs must be submitted no later than 60 days from the effective date of the final GP. Pre-1985 LTFs seeking coverage or continued coverage under GP No. AK-G70-0000 must submit written Notification within 90 days of the effective date of the final Pre-1985 permit if they have not already done so. Facility operators which received a section 404 permit from the Army Corps of Engineers prior to October 22, 1985, but who did not provide Notification under the Pre-1985 GP and who fail to submit a timely written Notification in accordance with the proposed 2007 modifications, must seek coverage under the Post-1985 permit prior to commencing discharges of bark and wood debris.

In order to be authorized to discharge under the Post-1985 GP, owners or operators of an LTF must: (1) Submit a NOI as described in Part V to EPA and the Alaska Department of Environmental Conservation (ADEC); (2) develop and implement a Pollution Prevention Plan (PPP); (3) receive written authorization for a project area zone of deposit (ZOD) from ADEC; and, (4) receive written authorization to discharge bark and wood debris from EPA. In order to be able to discharge in compliance with the Pre-1985 GP modifications, owners or operators of an LTF must: (1) Submit a Notification to EPA and ADEC; (2) develop and implement a PPP; (3) receive written authorization for a project area ZOD from ADEC; and, (4) receive a NPDES number from EPA. A fact sheet has been prepared which sets forth the principle factual, legal, policy, and scientific information considered in the development of the general permits. Both GPs contain a combination of technology-based requirements and water quality-based effluent limits, standards, or conditions.

Public Comment and Public Hearing: Interested persons may submit written comments on the draft GPs to the attention of Kai Shum at the address below. Copies of the draft GPs and fact sheet are available upon request. The permits and fact sheet may also be downloaded from the Region 10 Web site at: http://www.epa.gov/r10earth/waterpermits.htm (click on “draft permits”, then “Alaska”).

All comments should include the name, address, and telephone number of the commenter and a concise statement of comment and the relevant facts upon which it is based. Comments of either support or concern which are directed at specific, cited permit requirements are appreciated.

The EPA and ADEC will host a public hearing to present information relevant to the LTF GPs, to answer questions, and to receive verbal comments on the draft general permits. The hearing is scheduled as follows: Thursday, September 6, 2007, 7 p.m.-11 p.m.; Centennial Hall and Convention Center; 101 Eagan Drive; Juneau, Alaska 99801.

After the expiration date of the Public Notice on September 25, the Director, Office of Water and Watersheds, EPA Region 10, will make a final determination with respect to issuance of the permits. Response to comments will be published with the final permits. The proposed requirements contained in the draft GPs will become final 30 days after publication of the final permits in the Federal Register.

ADDRESSES: Comments on the proposed GPs should be sent to Kai Shum; USEPA Region 10; 1200 6th Ave., OWW-130; Seattle, Washington 98101. Comments may also be received via electronic mail at: shum.kai@epa.gov.

SUPPLEMENTARY INFORMATION:

Administrative Record

The complete administrative record for the draft GPs are available for public review at the EPA Region 10 headquarters at the address listed above.

FOR FURTHER INFORMATION CONTACT: Additional information can be obtained by contacting Kai Shum at the address above, or by visiting the Region 10 Web site at: http://www.epa.gov/r10earth/waterpermits.htm. Requests may also be made to Audrey Washington at (206) 553-0523, or electronically mailed to: washington.audrey@epa.gov.

Other Legal Requirements

State Water Quality Standards and State Certification

EPA is also providing Public Notice of ADEC's intent to certify the permits pursuant to section 401 of the Clean Water Act. ADEC has provided draft certification that the draft GPs comply with State Water Quality Standards (18 AAC 70), including the State's antidegradation policy. Comments on the state's draft section 401 certifications of the permits should be sent to Chris Foley; ADEC; P.O. Box 11180; 410 Willoughby Ave., Suite 303; Juneau, Alaska 99811-1800. Comments may also be received via electronic mail at: chris.foley@alaska.gov.

National Environmental Policy Act

The National Environmental Policy Act (NEPA) at 42 U.S.C. 4322, requires federal agencies to conduct an environmental review of their actions (including permitting activity) that may significantly affect the quality of the human environment. EPA regulations which implement NEPA (40 CFR part 6) clarify this requirement as it pertains to NPDES permitting actions for new sources of discharge types with promulgated effluent limitation guidelines. No effluent limitation guidelines have been proposed or promulgated for discharges from LTFs pursuant to CWA Section 306, thus, new LTFs that may seek to discharge under the proposed GPs do not meet the criteria for new sources. Therefore, a NEPA environmental review is not required for the permits.

Endangered Species Act

Section 7 of the Endangered Species Act requires EPA to consult with the U.S. Fish and Wildlife Service and NOAA Fisheries regarding the potential effects that an action may have on listed endangered or threatened species or their critical habitat. To address these ESA requirements, and in support of EPA's informal consultation with the Services, a Biological Evaluation (BE) was prepared to analyze these potential effects. During the development of the draft general permits, information provided by the Services was used to identify 12 species of interest for consideration in the BE. The results of the BE concluded that discharges from LTFs will either have no effect or are not likely to adversely affect threatened or endangered species in the vicinity of the discharge. The fact sheet, the draft permits and the BE are being reviewed by the Services for consistency with those programs established for the conservation of endangered and threatened species. Any additional comments or conservation recommendations received from the Services regarding threatened or endangered species will be considered prior to issuance of the GPs.

Magnuson-Stevens Fishery Conservation and Management Act

Section 305(b) of the Magnuson-Stevens Act (16 U.S.C. 1855(b)) requires federal agencies to consult with NOAA Fisheries when any activity proposed to be permitted, funded, or undertaken by a federal agency may have an adverse effect on designated Essential Fish Habitat (EFH) as defined by the Act. To address the requirements of the Magnuson-Stevens Act, EPA prepared an EFH Assessment concluding that LTF operations are not likely to have an adverse effect on EFH as the total area likely to be adversely impacted is an extremely small proportion of the total available habitat. As with ESA, any additional comments or conservation recommendations received from NOAA Fisheries regarding EFH will be considered prior to issuance of the GPs.

Alaska Coastal Management Program

The State of Alaska, Department of Natural Resources (ADNR), Office of Project Management and Permitting (OPMP), will review this permitting action for consistency as provided in section 307(c)(3) of the Coastal Zone Management Act of 1972, as amended (16 U.S.C. 1456(c)(3)). EPA has determined that the activities authorized by the proposed GPs are consistent to the maximum extent practicable with the state's Coastal Zone Management Plan. EPA will seek concurrence with this determination from the ADNR OPMP prior to issuing the final permits. Comments on the state's consistency determination should be sent to Joe Donohue; ADNR OPMP; P.O. Box 111030; Juneau, Alaska 99811-1030. Comments may also be received via electronic mail at: joe.donohue@alaska.gov.

Executive Order 12866

EPA has determined that these GPs are not a “significant regulatory action” under the terms of Executive Order 12866 and is therefore not subject to OMB review.

Paperwork Reduction Act

The information collection requirements of these GPs were previously approved by the Office of Management and Budget (OMB) under the provisions of the Paperwork Reduction Act, 44 U.S.C. 3501 et seq., and assigned OMB control numbers 2040-0086 (NPDES permit application) and 2040-0004 (discharge monitoring reports).

Regulatory Flexibility Act

The Regulatory Flexibility Act (RFA), 5 U.S.C. 601 et seq., requires that EPA prepare a regulatory flexibility analysis for rules subject to the requirements of 5 U.S.C. 553(b) that have a significant impact on a substantial number of small entities. However, general NPDES permits are not “rules” subject to the requirements of 5 U.S.C. 553(b), and is therefore not subject to the RFA.

Unfunded Mandates Reform Act

Section 201 of the Unfunded Mandates Reform Act (UMRA), Public Law 104-4, generally requires Federal agencies to assess the effects of their “regulatory actions” (defined to be the same as “rules” subject to the RFA) on tribal, state, and local governments and the private sector. However, general NPDES permits are not “rules” subject to the requirements of 5 U.S.C. 553(b), and is therefore not subject to the RFA.

Signed this 23rd day of July, 2007.
Michael F. Gearheard,
Director, Office of Water and Watersheds, Region 10.

[FR Doc. E7-14772 Filed 7-30-07; 8:45 am]

BILLING CODE 6560-50-P